DEPARTMENT OF THE INTERIOR

National Park Service

[NPS-WASO-NAGPRA-15767; PPWOCRADN0-PCU00RP14.R50000]

Notice of Inventory Completion: Glenn A. Black Laboratory of Archaeology at Indiana University, Bloomington, IN

AGENCY: National Park Service, Interior.

ACTION: Notice.

SUMMARY: The Glenn A. Black Laboratory of Archaeology at Indiana University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by July 24, 2014.

ADDRESSES: Jayne-Leigh Thomas, Indiana University, NAGPRA Office, Student Building 318, 701 E. Kirkwood Ave., Bloomington, IN 47405, telephone (812) 856-5315, email thomajay@indiana.edu.

SUPPLEMENTARY INFORMATION: Notice is here given in accordance with the Native American Graves Protection and Repatriation Act (NAGPRA), 25 U.S.C. 3003, of the completion of an inventory of human remains under the control of the Glenn A. Black Laboratory of Archaeology at Indiana University, Bloomington, IN. The human remains were removed from Maricopa County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Indiana University professional staff in consultation with representatives of the Ak Chin Indian Community of the Maricopa (Ak Chin) Indian Reservation, Arizona; Cocopah Tribe of Arizona; Gila River Indian Community of the Gila River Indian Reservation, Arizona; Hopi Tribe of Arizona; Quechan Tribe of the Fort Yuma Indian Reservation, California and Arizona; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); and the Zuni Tribe of the Zuni Reservation, New Mexico.

History and Description of the Remains

During the 1940s-1960s, human remains representing, at minimum, one individual were removed from an unknown site along the Verde River near Horseshoe Dam in Maricopa County, AZ, by an unknown collector. The remains were sold by the collector's widow to a private purchaser in 2013. The Indiana University NAGPRA Office was contacted regarding these remains, which were donated to the Glenn A. Black Laboratory of Archaeology in November 2013. The collection has been identified as the partial remains of a single child, aged 4-5 years. The human remains consist of a skull and mandible. No known individuals were identified. No associated funerary objects are present.

Notes included with the collection indicated that the remains were discovered along the Verde River just below Horseshoe Dam, dating to 1200-1400 A.D. and possibly being from the Salado culture. This time period also falls within the Hohokam culture in the Southwest, which dates from 300 to 1450 A.D. Archeological evidence and oral traditions have demonstrated a strong relationship of shared group identity that can be reasonably traced between the Salado and Hohokam cultures and the Ak Chin Indian Community of the Maricopa (Ak Chin) Indian Reservation, Arizona; Gila River Indian Community of the Gila River Indian Reservation, Arizona; Salt River Pima-Maricopa Indian Community of the Salt River Reservation, Arizona; and the Tohono O'odham Nation of Arizona. These four Indian tribes are one cultural group known as the O'odham. In 1990, the four O'odham Indian tribes issued a joint statement claiming cultural affiliation to the Salado and Hohokam archeological cultures, as well as to all others present in their aboriginal claims area in what is known today as Arizona and Mexico.

A relationship of shared group identity can also reasonably be traced between Hohokam culture and the Hopi Tribe of Arizona and the Zuni Tribe of the Zuni Reservation, New Mexico. Based on O'odham oral tradition, some of the people occupying the Hohokam area migrated north and joined the Zuni and Hopi. Pursuant to the Hopi Tribal Council Resolution H-70-94, the Hopi claim cultural affiliation with earlier cultural groups in Arizona including the Hohokam. In 2006, official representatives of the Hopi Tribe restated Hopi's shared group identity with Hohokam culture based on oral tradition, traditional geography, archaeological evidence, and on-going cultural traditions. In 1995, the Zuni Tribe issued a “Statement of Cultural Affiliation with Prehistoric and Historic Cultures,” in which a relationship of shared group identity with Hohokam culture based on oral traditions and archaeological evidence. Cultural affiliation to collections associated with the Hohokam and Salado archaeological cultures was also formalized in the official Zuni “Policy Statement Regarding the Protection and Treatment of Human Remains and Associated Funerary Objects.”

Determinations Made By Indiana University

Officials of the Glenn A. Black Laboratory of Archaeology at Indiana University have determined that:

• Pursuant to 25 U.S.C. 3001(9), the human remains described in this notice represent the physical remains of one individual of Native American ancestry.

• Pursuant to 25 U.S.C. 3001(2), there is a relationship of shared group identity that can be reasonably traced between the Native American human remains and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona, and the Zuni Tribe of the Zuni Reservation, New Mexico.

Additional Requestors and Disposition

Lineal descendants or representatives of any Indian tribe or Native Hawaiian organization not identified in this notice that wish to request transfer of control of these human remains should submit a written request with information in support of the request to Jayne-Leigh Thomas, Indiana University, NAGPRA Office, Student Building 318, 701 E. Kirkwood Ave., Bloomington, IN 47405, telephone (812) 856-5315, email thomajay@indiana.edu, by July 24, 2014. After that date, if no additional requestors have come forward, transfer of control of the human remains to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona, and the Zuni Tribe of the Zuni Reservation, New Mexico may proceed.

Indiana University is responsible for notifying the Ak Chin Indian Community of the Maricopa (Ak Chin) Indian Reservation, Arizona; Cocopah Tribe of Arizona; Gila River Indian Community of the Gila River Indian Reservation, Arizona; Hopi Tribe of Arizona; Quechan Tribe of the Fort Yuma Indian Reservation, California and Arizona; Salt River Pima-Maricopa Indian Community of the Salt River Reservation, Arizona; San Carlos Apache Tribe of the San Carlos Reservation, Arizona; Tohono O'odham Nation of Arizona; Tonto Apache Tribe of Arizona; White Mountain Apache Tribe of the Fort Apache Reservation, Arizona; Yavapai-Apache Nation of the Camp Verde Indian Reservation, Arizona; Yavapai-Prescott Indian Tribe (previously listed as the Yavapai-Prescott Tribe of the Yavapai Reservation, Arizona); and the Zuni Tribe of the Zuni Reservation, New Mexico, that this notice has been published.

Dated: May 7, 2014.
David Tarler,
Acting Manager, National NAGPRA Program.

[FR Doc. 2014-14728 Filed 6-23-14; 8:45 am]

BILLING CODE 4312-50-P